DEPARTMENT OF STATE

[Public Notice: 9541]

Renewal of Cultural Property Advisory Committee Charter

SUMMARY: The Charter of the Department of State's Cultural Property Advisory Committee (CPAC) has been renewed for an additional two years. The Charter of the Cultural Property Advisory Committee is being renewed for a two-year period. The Committee was established by the Convention on Cultural Property Implementation Act of 1983, 19 U.S.C. 2601 et seq. It reviews requests from other countries seeking U.S. import restrictions on archaeological or ethnological material the pillage of which places a country's cultural heritage in jeopardy. The Committee makes findings and recommendations to the President's designee who, on behalf of the President, determines whether to impose the import restrictions. The membership of the Committee consists of private sector experts in archaeology, anthropology, or ethnology; experts in the international sale of cultural property; and representatives of museums and of the general public.

FOR FURTHER INFORMATION CONTACT: Cultural Heritage Center, U.S. Department of State, Bureau of Educational and Cultural Affairs, 2200 C Street NW., Washington, DC 20522. Telephone: (202) 632-6301; Fax: (202) 632-6300.

Dated: March 1, 2016.
Maria P. Kouroupas,
Executive Director, Cultural Property Advisory Committee, Department of State.

[FR Doc. 2016-10223 Filed 4-29-16; 8:45 am]

BILLING CODE 4710-05-P